Title 3—

The President

Presidential Determination No. 2001-04 of December 11, 2000

Determination to Authorize the Furnishing of Emergency Military Assistance to the United Nations Mission in Sierra Leone (UNAMSIL), Countries Participating in UNAMSIL, and Other Countries Involved in Peacekeeping Efforts or Affiliated Coalition Operations With Respect to Sierra Leone

Memorandum for the Secretary of State [and] the Secretary of Defense

Pursuant to the authority vested in me by section 506(a) (1) of the Foreign Assistance Act of 1961, as amended, 22 U.S.C. 2318 (a) (1) (A) (the “Act”), I hereby determine that:

(1) an unforeseen emergency exists that requires immediate military assistance to UNAMSIL, countries currently or in the future participating in UNAMSIL, and other countries involved in peacekeeping efforts or affiliated coalition operations with respect to Sierra Leone, including the Government of Sierra Leone, and

(2) the emergency requirement cannot be met under the authority of the Arms Export Control Act or any other law except section 506(a) (1) of the Act.

I therefore direct the drawdown of defense articles from the stocks of the Department of Defense, defense services from the Department of Defense, and military education and training of an aggregate value not to exceed $36 million to UNAMSIL and such countries to support peacekeeping efforts with respect to Sierra Leone.

The Secretary of State is authorized and directed to report this Determination to the Congress and to arrange for its publication in the Federal Register.

wj

THE WHITE HOUSE,

Washington, December 11, 2000

[FR Doc. 00-32282

Filed 12-15-00; 8:45 am]

Billing code 4710-10-M